DEPARTMENT OF HOMELAND SECURITY

Coast Guard

33 CFR Part 165

[Docket No. USCG-2011-0595]

Columbia Unlimited Hydroplane Races; Kennewick, WA

AGENCY: Coast Guard, DHS.

ACTION: Notice of enforcement of regulation.

SUMMARY: The Coast Guard will enforce the Special Local Regulation for the Columbia Unlimited Hydroplane Races. This regulation which restricts navigation and anchorage on the Columbia River for six days at the end of July. This action is necessary to ensure the safety of the vessels involved in the Annual Kennewick, Washington, Columbia Unlimited Hydroplane Races (Water Follies). During the enforcement period, no person or vessel may operate their vessels in this area without permission from the on scene Patrol Commander.

DATES: The regulations in 33 CFR 100.1303 will be enforced from Tuesday, July 26, through Sunday, July 31, 2011 from 8:30 a.m. until the last race is completed each day at approximately 7:30 p.m., unless sooner terminated by the Patrol Commander.

FOR FURTHER INFORMATION CONTACT: If you have questions on this notice, call or e-mail BM1 Silvestre Suga III, Coast Guard Marine Safety Unit Portland; telephone 503-240-9327, e-mail Silvestre.G.Suga@USCG.mil.

SUPPLEMENTARY INFORMATION: The Coast Guard will enforce the regulations found in 33 CFR 100.1303 restricting regular navigation and anchoring activities on the Columbia River during the periods specified in the DATES section.

Under the provisions of 33 CFR 100.1303, no person or vessel may enter or remain in the area without permission of the Captain of the Port, Columbia River or his designated on-scene Patrol Commander. Persons or vessels wishing to enter the area may request permission to do so from the on-scene Captain of the Port representative via VHF Channel 16 or 13. The Coast Guard may be assisted by other Federal, State, or local enforcement agencies in enforcing this regulation.

This notice is issued under authority of 33 CFR 165.1318 and 5 U.S.C. 552 (a). In addition to this notice in the Federal Register , the Coast Guard will provide the maritime community with notification of these enforcement periods via the Local Notice to Mariners.

Dated: July 5, 2011.
L.R. Tumabarello,
Captain, U.S. Coast Guard, Acting Captain of the Port, Sector Columbia River.

[FR Doc. 2011-18045 Filed 7-18-11; 8:45 am]

BILLING CODE 9110-04-P